DEPARTMENT OF COMMERCE

International Trade Administration

[A-428-840]

Seamless Refined Copper Pipe and Tube From Mexico: Extension of Time Limits for the Preliminary Results of Antidumping Duty New Shipper Review

AGENCY: Import Administration, International Trade Administration, Department of Commerce.

DATES: Effective Date: December 23, 2011.

FOR FURTHER INFORMATION CONTACT: Dennis McClure or Joy Zhang, AD/CVD Operations, Office 3, Import Administration, International Trade Administration, U.S. Department of Commerce, 14th Street and Constitution Ave NW., Washington, DC 20230; telephone: (202) 482-5973 or (202) 482-1168, respectively.

SUPPLEMENTARY INFORMATION:

Background

On July 7, 2011, the Department of Commerce (the Department) published a notice of initiation of the new shipper review of the antidumping duty order on seamless refined copper pipe and tube from Mexico, covering the period November 22, 2010, to April 30, 2011. See Seamless Refined Copper Pipe and Tube From Mexico: Notice of Initiation of Antidumping Duty New Shipper Review, 76 FR 39850 (July 7, 2011). The preliminary results are currently due no later than December 25, 2011.¹

¹ Because the statutory deadline (i.e., December 25, 2011) falls on a weekend and Monday December 26, 2011, is a Federal Holiday, the preliminary results are due December 27, 2011, which is the next business day. See Notice of Clarification: Application of “Next Business Day” Rule for Administrative Determination Deadlines Pursuant to the Tariff Act of 1930, As Amended, 70 FR 24533 (May 10, 2005).

Extension of Time Limit for Preliminary Results

Section 751(a)(2)(B)(iv) of the Tariff Act of 1930, as amended (the Act), requires that the Department make a preliminary determination within 180 days after the date of which the review is initiated. Section 751(a)(2)(B)(iv) of the Act further states that if the administering authority concludes that the case is extraordinarily complicated, it may extend the 180-day period to issue its preliminary results to up to 300 days.

We determine that this review is extraordinarily complicated because of the allegations filed by petitioners ² concerning the corporate structure of respondent GD Affiliates S.de R.L. de C.V. and the petitioner's request that the review be rescinded. Given the complexity of these issues, and in accordance with section 751(a)(2)(B)(iv) of the Act, we are extending the time period for issuing the preliminary results of this review by 120 days. Therefore, the preliminary results are now due no later than April 23, 2012. The final results continue to be due 90 days after publication of the preliminary results.

² The petitioners in this investigation are Cerro Flow Products, Inc., KobeWieland Copper Products, LLC, Mueller Copper Tube Products, Inc., and Mueller Copper Tube Company, Inc. (collectively, “petitioners”).

This notice is published pursuant to sections 751(a)(2)(B)(iv) and 777(i)(1) of the Act.

Dated: December 19, 2011.
Christian Marsh,
Deputy Assistant Secretary for Antidumping and Countervailing Duty Operations.

[FR Doc. 2011-32993 Filed 12-22-11; 8:45 am]

BILLING CODE 3510-DS-P